ENVIRONMENTAL PROTECTION AGENCY

40 CFR Part 180

[EPA-HQ-OPP-2014-0008; FRL-9918-90]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before January 16, 2015.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Robert McNalley, Biopesticides and Pollution Prevention Division (BPPD) (7511P), main telephone number: (703) 305-7090; email address: BPPDFRNotices@epa.gov., Susan Lewis, Registration Division (RD) (7505P), main telephone number: (703) 305-7090; email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

New Tolerance

1. PP 2F8134. (EPA-HQ-OPP-2013-0151). Syngenta Crop Protection LLC., P.O. Box 18300, Greensboro, NC 27419-8300, requests to establish a tolerance in 40 CFR part 180 for residues of the fungicide difenoconazole, 1-[2-[2-chloro-4-(4-hlorophenoxy)phenyl]-4-methyl-1,3-dioxolan-2-ylmethyl]-1H-1,2,4-triazole, in or on rapeseed, subgroup 20A at 0.1 ppm. For plants, Syngenta Crop Protection, LLC has submitted practical analytical method (AG-575B) for detecting and measuring levels of difenoconazole in or on food with a limit of quantitation (LOQ) that allows monitoring of food with residues at or above the levels set in the proposed tolerances. Residues are qualified by liquid chromatography with tandem mass spectrometry (LC/MS/MS). For livestock, a practical analytical method (AG-544A) for detecting and measuring levels of difenoconazole in or on cattle tissues and milk, and poultry tissues and eggs, with an LOQ that allows monitoring of food with residues at or above the levels set in the proposed tolerances. Tolerances in meat, milk, poultry or eggs were established for enforcement purposes. EPA is republishing this notice of availability.

2. PP 3E8218. (EPA-HQ-OPP-2014-0483). BASF Corporation, P.O. Box 13528, Research Triangle Park, North Carolina, 27709, requests to establish a tolerance in 40 CFR part 180 for residues of the fungicide, dimethomorph, in or on papaya at 1.5 parts per million (ppm). The analytical method liquid chromatography with LC-MS/MS is available to EPA for the detection and measurement of the pesticide residues. Contact: RD.

3. PP 3F8199. (EPA-HQ-OPP-2014-0482). Cheminova A/S, c/o Cheminova, Inc., 1600 Wilson Blvd., Suite 700, Arlington, VA 22209-2510., requests to establish a tolerance in 40 CFR part 180 for residues of the fungicide, flutriafol, in or on Brassica, head and stem, subgroup 5A at 1.5 ppm; Brassica, leafy greens, subgroup 5B at 7.0 ppm; egg at 0.01 ppm; hog, liver at 0.05 ppm; hog, meat byproducts, except liver at 0.02 ppm; hog, muscle at 0.01 ppm; leaf petioles, subgroup 4B at 3.0 ppm; leafy greens, subgroup 4A, except head lettuce at 10 ppm; lettuce, head at 1.5 ppm; poultry, meat byproducts at 0.02 ppm; radicchio at 1.5 ppm; sorghum, grain, forage at 2.0 ppm; sorghum, grain, grain at 1.5 ppm; and sorghum, grain, stover at 6.0 ppm. The gas chromatography-mass selective detection (GC/MSD) is used to measure and evaluate the chemical flutriafol. Contact: RD.

4. PP 3F8213. (EPA-HQ-OPP-2014-0530). Janssen PMP, Janssen Pharmaceutica NV, 1125 Trenton-Harbourton Road, Titusville, NJ 08560, requests to establish a tolerance in 40 CFR part 180 for residues of the fungicide, pyrimethanil, in or on pomegranate (post-harvest) at 5.0 ppm. The high performance liquid chromatography with triple quadruple mass spectrometry (HPLC-MS/MS) is used to measure and evaluate the chemical pyrimethanil. Contact: RD.

5. PP 3F8224. (EPA-HQ-OPP-2014-0285). Valent U.S.A. Corporation, 1600 Riviera Ave., Suite 200, Walnut Creek, CA 94596, requests to establish tolerances in 40 CFR part 180 for residues of the fungicide, mandestrobin (S-2200), (2-[(2,5-dimethylphenoxy)methyl]-α-methoxy-N-methyl-benzeneacetamide) in or on small fruit vine climbing except fuzzy kiwifruit crop subgroup 13-07F, fruit at 5 ppm; juice at 7 ppm and dried fruit at 10 ppm; low growing berry subgroup 13-07G, fruit at 3 ppm; and rapeseed crop subgroup 20A, seed at 0.6 ppm. An independently validated analytical method has been submitted for analyzing parent S-2200 residues with appropriate sensitivity in all crop commodities for which tolerances are being request. Contact: RD.

6. PP 4E8232. (EPA-HQ-OPP-2014-0695). Sumitomo Chemical Company, LTD., 27-1 Shinkawa 2 Chrome, Chuo-Ku, Tokyo 104-8260, Japan, requests to establish an import tolerance in 40 CFR part 180 for residues of the fungicide, diethofencarb (isopropyl 3,4-diethoxycarbanilate), in or on banana at 0.09 ppm. The LC-MS/MS analytical method is used to measure and evaluate the chemical diethofencarb. Contact: RD.

7. PP 4E8241. (EPA-HQ-OPP-2014-0232). Interregional Research Project Number 4 (IR-4), 500 College Road East, Princeton, NJ 08540, requests to establish a tolerance in 40 CFR part 180 for residues of the insecticide, novaluron, (N-[[[3-chloro-4-[1,1,2-trifluoro-2-(trifluoromethoxy)ethoxy]phenyl]amino]carbonyl]-2,6-difluorobenzamide), in or on avocado at 0.60 ppm; carrot at 0.05 ppm; bean at 0.60 ppm; vegetable, fruiting, group 8-10 at 1.0 ppm; fruit, pome, group 11-10 at 2.0 ppm; cherry subgroup 12-12A at 8.0 ppm; peach subgroup 12-12B at 1.9 ppm; and plum subgroup 12-12C at 1.9 ppm. The analytical method: Gas chromatography/electron capture detector (GC/ECD) and a high performance liquid chromatography/ultraviolet method (HPLC/UV) with the lowest level of method validation (LLMV) for the subject commodities is 0.05 ppm is used to measure and evaluate the novaluron chemical, residue(s). Contact: RD.

8. PP 4E8248. (EPA-HQ-OPP-2014-0284). Interregional Research Project Number 4 (IR-4) 500 College Road East, Suite 201 W, Princeton, NJ 08540, requests to establish a tolerance in 40 CFR part 180 for residues of S-metolachlor in or on the raw agricultural commodity lettuce at 1.5 parts per million (ppm); vegetable, cucurbit group 9 at 0.50 ppm; vegetable, fruiting, group 8-10, except tabasco pepper at 0.10 ppm; low growing berry subgroup 13-07G except cranberry at 0.40 ppm; and sunflower subgroup 20B at 0.50 ppm and the concurrent deletion of the existing tolerances for okra; vegetable, fruiting, group 8 except tabasco pepper; cucumber; melon subgroup 9A; pumpkin; squash, winter; and sunflower, seed. A gas chromatography-nitrogen phosphorus detection (GC/NPD) method has been submitted to the Agency for determining residues in/on crop commodities and is published in the Pesticide Analytical Manual (PAM) Vol. II, Method I. A GC/MSD method has been submitted to the Agency for determining residues in livestock commodities and is published in PAM Vol. II, Method II. These methods determine residues of S-metolachlor and its metabolites as either CGA-37913 or CGA-49751 following acid hydrolysis. Contact: RD.

9. PP 4E8250. (EPA-HQ-OPP-2014- 0249). Taminco US Inc., Two Windsor Plaza, Suite 411, 7540 Windsor Drive, Allentown, PA 18195, requests to establish a tolerance in 40 CFR part 180 for residues of the fungicide thiram, in or on avocado at 8 ppm. The ALS Laboratory Group method MS 133.02 is used to measure and evaluate the chemical thiram (as CS2). Contact: RD.

10. PP 4E8272. (EPA-HQ-OPP-2014-0496). Interregional Research Project Number 4 (IR-4), 500 College Road East, Suite 201 W, Princeton, NJ 08540 requests to establish a tolerance in 40 CFR part 180 for residues of fludioxonil [4-(2, 2-difluoro-1,3-benzodioxol-4-yl)-1-H-pyrrole-3-carbonitrile] in or on the raw agricultural commodity carrot at 7.0 ppm. The anaylytical method has passed an Agency petition method validation for several commodities, and is currently the enforcement method for fludioxonil. This method has also been forwarded to the Food and Drug Administration for inclusion into PAM II. An extensive database of method validation data using this method on various crop commodities is available. Contact: RD.

11. PP 4E8282. (EPA-HQ-OPP-2014-0397). Interregional Research Project Number 4 (IR-4), 500 College Road East, Princeton, NJ 08540, requests to establish a tolerance in 40 CFR part 180 for residues of the herbicide, pendimethalin, [N-(1-ethylpropyl)-3,4-dimethyl-2,6-dinitrobenzenamine], and its metabolite, 4-[(1-ethylpropyl)amino]-2-methyl-3,5-dinitrobenzyl alcohol, calculated as the stoichiometric equivalent of pendimethalin, in or on the raw agricultural commodities: Caneberry, sub-group 13-07A at 0.10 ppm; bushberry subgroup 13-07B at 0.10 ppm and by amending the established tolerance in or on the raw agricultural commodities of nut, tree, group 14-12 at 0.10 ppm. The analytical method is aqueous organic solvent extraction, column clean up, and quantitation by GC. The method has a LOQ of 0.05 ppm for pendimethalin and the alcohol metabolite. Contact: RD.

12. PP 4E8295. (EPA-HQ-OPP-2014-0552). Interregional Research Project Number 4 (IR-4) 500 College Road East, Suite 201 W, Princeton, NJ 08540, requests to establish a tolerance in 40 CFR part 180 for residues of esfenvalerate, ((S)-cyano-(3-phenoxyphenyl)methyl (S)-4-chloro-alpha-(1-methylethyl) benzeneacetate in or on the oilseed crop group 20 at 0.5 ppm. The petitioner also requests that upon approval of the tolerance in this petition summary that the existing tolerances for cotton, undelinted seed and sunflower, seed be removed as unnecessary. There is a practical analytical method utilizing electron-capture gas chromatography with nitrogen phosphorous detection available for enforcement with a limit of detection that allows monitoring food with residues at or above tolerance levels. The limit of detection for updated method is the same as that of the current PAM II, which is 0.01 ppm. Contact: RD.

13. PP 4E8296. (EPA-HQ-OPP-2013]-0151). Dragonberry Produce/YW International, 386 South Sequoia Parkway, Canby, Oregon 97013, requests to establish a tolerance in 40 CFR 180.475 for residues of the fungicide, difenoconazole, in or on imported dragonfruit at 1.5 ppm. The analytical methods AG-575B for crops and AM-544A for livestock commodities are used to measure and evaluate the chemical difenoconazole residues. Contact: RD.

14. PP 4F8301. (EPA-HQ-OPP-2014-0680). Dow AgroSciences LLC, 9330 Zionsville Road; Indianapolis, IN 46268, requests to establish a tolerance in 40 CFR part 180 for residues of the herbicide, pronamide (propyzamide) and its metabolite containing the 3,5-dichlorobenzoyl moiety calculated as 3,5-dichloro-N-(1,1-dimethyl-2-propynyl) benzamide, in or on lettuce, leaf at 1.0 part per million (ppm). The gas chromatography using electron capture detection method is used to measure and evaluate the chemical pronamide and its metabolite. Contact: RD.

15. PP 4E8302. (EPA-HQ-OPP-2014-0590). Interregional Research Project Number 4 (IR-4), 500 College Road East, Suite 201 W, Princeton, NJ 08540 requests to establish tolerances in 40 CFR part 180 for residues of pyrimethanil (4,6-dimethyl-N- phenyl-2-pyrimidinamine) in or on the raw agricultural commodities cucumber at 1.5 ppm; orange subgroup 10-10A at 10 ppm; lemon subgroup 10-10B at 11 ppm; grapefruit subgroup 10-10C at 10 ppm; fruit, pome, group 11-10 at 14 ppm; fruit, stone, group 12-12 at 10 ppm; and tomato subgroup 8-10A at 0.5 ppm. The petitioner also requests that upon approval of the tolerances in this petition summary, that the tolerances for fruit, citrus, group 10 except lemon, postharvest; lemon, preharvest and postharvest; fruit, pome, group 11 (pre-harvest and post-harvest); fruit, stone, group 12; and tomato be removed as unnecessary. The plant metabolism studies demonstrated that analysis for the parent compound, pyrimethanil is sufficient to enable the assessment of the relevant residues in crop commodities. Pyrimethanil was extracted from cucumbers by homogenization with acetone. After clean-up, an aliquot of the extract was diluted with a mixture of acetonitrile and water with subsequent residue determination by HPLC-MS/MS. The method allows the detection and measurement of residues in or on agricultural commodities at or above the proposed tolerance level. Contact: RD.

16. PP 4F8281. (EPA-HQ-OPP-2014-0531). BASF Corporation, P.O. Box 13528, Research Triangle Park, North Carolina 27709, requests to establish a tolerance in 40 CFR part 180 for residues of the fungicide, dimethomorph, in or on strawberry at 1.0 ppm. The analytical method LC-MS/MS is available to EPA for the detection and measurement of the pesticide residues. Contact: RD.

17. PP 4F8286. (EPA-HQ-OPP-2014-0607). BASF Corporation, P.O. Box 13528, Research Triangle Park, NC 27709 requests to establish in 40 CFR part 180 for residues of the insecticide metaflumizone ((E and Z isomers; 2-[2-(4-cyanophenyl)-1-[3-(trifluoromethyl)phenyl]ethylidene]-N-[4-(trifluormethoxy)phenyl]hydrazinecarboxamide)) (CAS No. 139968-49-3) and its metabolite 4-{2-oxo-2-[3-(trifluoromethyl)phenyl]ethyl}-benzonitrile in or on the raw agricultural commodity citrus fruit group 10-10 at 0.04 ppm; pome fruit group 11-10 at 0.04 ppm; stone fruit group 12-12 at 0.04 ppm; and tree nut group 14-12 at 0.04 ppm. BASF Analytical Method No. 531/0 was developed to determine residues of metaflumizone and its metabolites M320I04 and M320I23 in crop matrices. In this method, residues of metaflumizone are extracted from plant matrices with methanol/water (70:30; v/v) and then partitioned into dichloromethane. For oily matrices, the residues are extracted with a mixture of isohexane/acetonitrile (1:1; v/v). The final determination of metaflumizone and its metabolites is performed by LC/MS/MS. Contact: RD.

Amended Tolerance

1. PP 3F8199. (EPA-HQ-OPP-2014-0482). Cheminova A/S, c/o Cheminova, Inc., 1600 Wilson Blvd., Suite 700, Arlington, VA 22209-2510, requests to amend 40 CFR 180.629 by removing tolerances for residues of the fungicide, flutriafol in or on the raw agricultural commodity cotton, meal at 0.5 ppm; cotton, refined oil at 0.5 ppm; hog, meat byproducts at 0.02 ppm. The GC/MSD is used to measure and evaluate the chemical flutriafol. Contact: RD.

2. PP 3F8199. (EPA-HQ-OPP-2014-0482). Cheminova A/S, c/o Cheminova, Inc., 1600 Wilson Blvd., Suite 700, Arlington, VA 22209-2510, requests to amend the tolerances in 40 CFR 180.629 for residues of the fungicide, flutriafol in or on the raw agricultural commodity cotton, gin byproducts to 0.5 ppm; cotton, undelinted seed to 0.5 ppm; and grain, aspirated fractions to 6.0 ppm. The GC/MSD is used to measure and evaluate the chemical flutriafol. Contact: RD.

3. PP 4E8241. (EPA-HQ-OPP-2014-0232). IR-4, 500 College Road East, Princeton, NJ 08540, proposes upon approval of petitioned-for tolerances listed under “New Tolerances”, to remove tolerances in 40 CFR 180.598 for residues of the insecticide, novaluron, N-[[[3-chloro-4-[1,1,2-trifluoro-2- (trifluoromethoxy)ethoxy] phenyl]amino] carbonyl]-2,6-difluorobenzamide), in or on bean, succulent, snap at 0.60 ppm; bean, dry, seed at 0.30 ppm; cherry at 8.0 ppm; fruit, pome, group 11 at 2.0 ppm; fruit, stone, group 12, except cherry at 1.9 ppm; vegetable, fruiting, group 8 at 1.0 ppm; cocona at 1.0 ppm; African eggplant at 1.0 ppm; pea eggplant at 1.0 ppm; scarlet eggplant at 1.0 ppm; goji berry at 1.0 ppm; garden huckleberry at 1.0 ppm, martynia at 1.0 ppm, naranjilla at 1.0 ppm, okra at 1.0 ppm, roselle at 1.0 ppm; sunberry at 1.0 ppm; bush tomato at 1.0 ppm; currant tomato at 1.0 ppm; and tree tomato at 1.0 ppm. The analytical method: Gas chromatography/electron capture detector (GC/ECD) and a HPLC/UV is used to measure and evaluate novaluron chemical residues. Contact: RD.

4. PP 4E8268. (EPA-HQ-OPP-2014- 0632). Taminco US Inc., Two Windsor Plaza, Suite 411, 7540 Windsor Drive, Allentown, PA 18195, requests to amend the tolerance in 40 CFR 180.132 for residues of the fungicide thiram, in or on banana at 0.8 ppm. The analytical method #Meth-100, revision #4 is used to measure and evaluate the chemical thiram (as CS2). Contact: RD.

5. PP 4E8272. (EPA-HQ-OPP-2014-0496). Interregional Research Project Number 4 (IR-4), 500 College Road East, Suite 201 W, Princeton, NJ 08540, requests to update an existing crop group in 40 CFR 180.516 for residues of fludioxonil [4-(2, 2-difluoro-1,3-benzodioxol-4-yl)-1-H-pyrrole-3-carbonitrile], by changing “fruit, stone, group 12 at 5.0 ppm” to “fruit, stone, group 12-12 at 5.0 ppm.” The anaylytical method has passed an Agency petition method validation for several commodities, and is currently the enforcement method for fludioxonil. This method has also been forwarded to the Food and Drug Administration for inclusion into PAM II. An extensive database of method validation data using this method on various crop commodities is available. Contact: RD.

6. PP 4E8282. (EPA-HQ-OPP-2014-0397). IR-4, 500 College Road East, Princeton, NJ 08540, proposes upon approval of petitioned-for tolerances listed under “New Tolerances”, to remove tolerances in 40 CFR 180.361 for residues of the herbicide, pendimethalin, N-(1-ethylpropyl)-3,4-dimethyl-2,6 dinitrobenzenamine, and its metabolite, 4-[(1-ethylpropyl)amino]-2-methyl-3,5-dinitrobenzyl alcohol, in or on method nut, tree, group 14 at 0.1 ppm; pistachio at 0.1 ppm and juneberry at -0.1 ppm. The analytical method is aqueous organic solvent extraction, column clean up, and quantitation by GC. The method has a LOQ of 0.05 ppm for pendimethalin and the alcohol metabolite. Contact: RD.

7. PP 4E8302. (EPA-HQ-OPP-2014-0590). Interregional Research Project Number 4 (IR-4), 500 College Road East, Suite 201 W, Princeton, NJ 08540, requests that the existing tolerance for “onion, bulb, subgroup 3-07A” be changed from 2.0 ppm to 0.20 ppm. The plant metabolism studies demonstrated that analysis for the parent compound, pyrimethanil is sufficient to enable the assessment of the relevant residues in crop commodities. Pyrimethanil was extracted from cucumbers by homogenization with acetone. After clean-up, an aliquot of the extract was diluted with a mixture of acetonitrile and water with subsequent residue determination by HPLC-MS/MS. The method allows the detection and measurement of residues in or on agricultural commodities at or above the proposed tolerance level. Contact: RD.

8. PP 4F8270. (EPA-HQ-OPP-2012-0638). BASF Corporation, 26 Davis Drive, Research Triangle Park, NC 27709, requests to amend the tolerances in 40 CFR 180.666 for residues of the fungicide, fluxapyroxad (BAS 700 F), 1 H-pyrazole-4-carboxamide,3-(difluoromethyl)-1-methyl-N-(3′,4′,5′-trifluoro[1,1′-biphenyl]-2-yl)-, its metabolites, and degradates, in or on cotton, gin byproducts at 20 ppm and cotton undelinted seed at 0.3 ppm. LC/MS/MS method is available as an enforcement method. This method uses reversed-phase HPLC with gradient elution, and includes 2 ion transitions to be monitored for the parent fluxapyroxad (BAS 700 F) plus metabolites M700F008, M700F048. Contact: RD.

9. PP 4F8281. (EPA-HQ-OPP-2014-0531). BASF Corporation, P.O. Box 13528, Research Triangle Park, North Carolina, 27709, requests to amend 40 CFR 180.493 by removing tolerances for residues of the fungicide, dimethomorph (BAS 550 F) [(E,Z)4-[3-(4-chlorophenyl)-3-(3,4-dimethoxyphenyl)-1-oxo-2-propenyl]-morpholine, its metabolites and degradates in or on the raw agricultural commodity lettuce, head at 10 ppm and lettuce, leaf at 10 ppm. The analytical method LC-MS/MS is available to EPA for the detection and measurement of the pesticide residues. Contact: RD.

10. PP 4F8286. (EPA-HQ-OPP-2014-0607). BASF Corporation, P.O. Box 13528, Research Triangle Park, NC 27709 requests to amend 40 CFR 180.657 by removing the established tolerances for residues of the insecticide metaflumizone ((E and Z isomers; 2-[2-(4-cyanophenyl)-1-[3-(trifluoromethyl)phenyl]ethylidene]-N-[4-(trifluormethoxy)phenyl]hydrazinecarboxamide)) (CAS No. 139968-49-3) and its metabolite 4-{2-oxo-2-[3-(trifluoromethyl)phenyl]ethyl}-benzonitrile in or on fruit, citrus group 10 at 0.04 ppm and nut, tree, group 14 at 0.04 ppm, upon establishment of the proposed tolerances listed under the “New Tolerances” paragraph for PP 4F8286. Contact: RD.

11. PP 4F8293. (EPA-HQ-OPP-2014-0613). United Phosphorus, Inc., 630 Freedom Business Center, Suite 402, King of Prussia, PA 19406, requests to amend the tolerances in 40 CFR 180.293 for residues of the herbicide, endothall, in or on cattle, fat from 0.01 to 0.05 ppm; cattle, kidney from 0.20 to 0.06 ppm; cattle, liver from 0.10 to 0.05 ppm; cattle, meat from 0.03 to 0.05 ppm; goat, fat from 0.005 to 0.05 ppm; goat, kidney from 0.15 to 0.06 ppm; goat, meat from 0.015 to 0.05 ppm; hog, fat from 0.005 to 0.05 ppm; hog, kidney from 0.10 to 0.06 ppm; hog, meat from 0.01 to 0.05 ppm; milk from 0.03 to 0.01 ppm; poultry, fat from 0.015 to 0.05 ppm; poultry, meat from 0.015 to 0.05 ppm; poultry, meat byproducts from 0.2 to 0.05 ppm; sheep, fat from 0.005 to 0.05 ppm; sheep, kidney from 0.15 to 0.06 ppm; and sheep, meat from 0.015 to 0.05 ppm. The analytical method # KP-245R0 using HPLC/MS/MS is used to measure and evaluate the chemical endothall. Contact: RD.

New Tolerance Exemption

1. PP 3F8221. (EPA-HQ-OPP-2014-0560). SciReg International on behalf of Andermatt Biocontrol AG., Stahlermatten 6 CH-6146, Grossdietwil, Switzerland, requests to establish an exemption from the requirement of a tolerance for residues of the microbial pesticide, Bacillus amyloliquefaciens strain FZB42, in or on all food commodities. The pesticide in intended to control soil borne diseases. The petitioner believes no analytical method is needed because Bacillus amyloliquefaciens strain FZB42 is virtually non-toxic and is not pathogenic. Andermatt Biocontrol AG is, therefore, submitting a petition to establish an exemption from the requirement of a tolerance and an analytical method is not required. Contact: BPPD.

2. PP 4F8251. (EPA-HQ-OPP-2014-0457). J.R. Simplot Company, 5369 W. Irving St., Boise, IN 83706, requests to establish an exemption from the requirement of a tolerance for residues of the plant incorporated protectant (PIP), Potato Late Blight Resistance Gene (also known as Rpi-vnt1), in or on potato. The petitioner believes no analytical method is needed because the petitioner is seeking an exemption from the requirement of a tolerance. Contact: BPPD.

3. PP 4F8275. (EPA-HQ-OPP-2014-0454). Monsanto Company, 800 North Lindbergh Blvd., St. Louis, MO 63167, requests to establish an exemption from the requirement of a tolerance for residues of the plant-incorporated protectant (PIP), Bacillus thuringiensis Cry1A.105 protein, in or on soybean. The petitioner believes no analytical method is needed because the petitioner is seeking an exemption from the requirement of a tolerance. Contact: BPPD.

List of Subjects in 40 CFR Part 180

Environmental protection, Agricultural commodities, Feed additives, Food additives, Pesticides and pests, Reporting and recordkeeping requirements.

Dated: December 10, 2014.
Daniel J. Rosenblatt,
Acting Director, Registration Division, Office of Pesticide Programs.

[FR Doc. 2014-29428 Filed 12-16-14; 8:45 am]

BILLING CODE 6560-50-P